DEPARTMENT OF HOMELAND SECURITY

[Docket ID DHS-2016-0040]

The President's National Security Telecommunications Advisory Committee

AGENCY: Department of Homeland Security.

ACTION: Committee management; Notice of Federal Advisory Committee meeting.

SUMMARY: The President's National Security Telecommunications Advisory Committee (NSTAC) will meet via teleconference on Wednesday, August 10, 2016. The meeting will be open to the public.

DATES: The NSTAC will meet on Wednesday, August 10, 2016, from 2:00 p.m. to 2:40 p.m. Eastern Daylight Time (EDT). Please note that the meeting may close early if the committee has completed its business.

ADDRESSES: The meeting will be held via conference call. For access to the conference call bridge, information on services for individuals with disabilities, or to request special assistance to attend, please email NSTAC@hq.dhs.gov by 5:00 p.m. EDT on August 9, 2016.

Members of the public are invited to provide comment on the issues that will be considered by the committee as listed in the SUPPLEMENTARY INFORMATION section below. Associated briefing materials that participants may discuss during the meeting will be available at www.dhs.gov/nstac for review as of August 1, 2016. Comments may be submitted at any time and must be identified by docket number DHS-2016-0040. Comments may be submitted by one of the following methods:

• Federal eRulemaking Portal: http://www.regulations.gov. Follow the instructions for submitting written comments.

• Email: NSTAC@hq.dhs.gov. Include the docket number DHS-2016-0040 in the subject line of the email message.

• Fax: 703-235-5961, Attn: Helen Jackson.

• Mail: Designated Federal Officer, Stakeholder Engagement and Critical Infrastructure Resilience Division, National Protection and Programs Directorate, Department of Homeland Security, 245 Murray Lane, Mail Stop 0604, Arlington, VA 20598-0604.

Instructions: All submissions received must include the words “Department of Homeland Security” and the docket number for this action. Comments received will be posted without alteration at www.regulations.gov, including any personal information that has been provided.

Docket: For access to the docket and comments received by the NSTAC, please go to www.regulations.gov and enter docket number DHS-2016-0040.

A public comment period will be held during the conference call on August 10, 2016, from 2:30 p.m. to 2:40 p.m. EDT. Speakers who wish to participate in the public comment period must register in advance by no later than August 9, 2016, at 5:00 p.m. EDT by emailing NSTAC at NSTAC@hq.dhs.gov. Speakers are requested to limit their comments to three minutes and will speak in order of registration. Please note that the public comment period may end before the time indicated, following the last request for comments.

FOR FURTHER INFORMATION CONTACT: Ms. Helen Jackson, NSTAC Designated Federal Officer, Department of Homeland Security, 703-235-5321.

SUPPLEMENTARY INFORMATION: Notice of this meeting is given under the Federal Advisory Committee Act, 5 U.S.C. appendix. The NSTAC advises the President on matters related to national security and emergency preparedness (NS/EP) telecommunications policy.

Agenda: The NSTAC will hold a conference call on August 10, 2016, to discuss issues and challenges related to NS/EP communications, which will include discussions with high-level Government stakeholders and a review of on-going NSTAC work, including an update on the Emerging Technologies Strategic Vision Subcommittee.

Dated: July 13, 2016.
Helen Jackson,
Designated Federal Officer for the NSTAC.

[FR Doc. 2016-17392 Filed 7-21-16; 8:45 am]

BILLING CODE 9110-9P-P